DEPARTMENT OF EDUCATION

Applications for New Awards; Turnaround School Leaders Program

AGENCY: Office of Elementary and Secondary Education, Department of Education.

ACTION: Notice.

Overview Information

Turnaround School Leaders Program

Notice inviting applications for new awards for fiscal year (FY) 2013 funds.

Catalog of Federal Domestic Assistance (CFDA) Number: 84.377B.

DATES: Applications Available: March 28, 2014.

Date of Pre-Application Webinar: April 9, 2014.

Further information will be available at http://www2.ed.gov/programs/sif/index.html.

Deadline for Notice of Intent to Apply (optional): April 25, 2014.

Deadline for Transmittal of Applications: May 23, 2014.

Deadline for Intergovernmental Review: July 22, 2014.

Full Text of Announcement

I. Funding Opportunity Description

Purpose of Program: The Turnaround School Leaders Program supports projects to develop and implement or enhance and implement a leadership pipeline that selects, prepares, places, supports, and retains school leaders (which may include leadership teams) for School Improvement Grant (SIG) schools (as defined in this notice) and/or SIG-eligible schools (as defined in this notice) in a local educational agency (LEA) or consortium of LEAs.

Background: Effective leaders trained to lead turnaround efforts in the Nation's lowest-performing schools are essential to improving student outcomes in these schools. In particular, after teacher effectiveness, leadership is found to be the most important school-based factor in explaining variation in student learning.¹ Yet, interviews with external partners engaged in leadership pipeline development, as well as monitoring of performance of State educational agencies (SEAs) and LEAs under the SIG program, as authorized under the Elementary and Secondary Education Act of 1965 (ESEA), as amended, Title I, Part A, Section 1003(g), 20 U.S.C. 6303(g), indicate that many LEAs do not have the capacity or resources to recruit or develop school leaders able to undertake successful turnaround efforts. In addition, it has become clear that State-approved certification programs are not preparing school leaders with the specialized skills needed to turn around schools identified as low-performing ² and that LEAs, in turn, struggle to identify the right competencies in leader candidates for turnaround schools and lack a comprehensive system that uses data to support the ongoing development of effective turnaround school leaders.³ Further, rural LEAs face unique challenges in recruiting strong leaders to guide school turnaround efforts due to the social and economic isolation of their communities.

¹ Mendels, Pamela. (June 2012, Vol. 33, No. 3). Principals in the Pipeline. Oxford, Ohio: Learning Forward. Retrieved from http://learningforward.org/docs/jsd-june-2012/mendels333.pdf.

² Young, M. et al. (2013). Change Agents: How States Can Develop Effective School Leaders. Dallas, TX: George W. Bush Institute. Retrieved from www.bushcenter.org/bush-institute/education-reform.

³ Rhim, Lauren Morando. (2012). No time to lose: Turnaround leader performance assessment. Charlottesville: University of Virginia's Darden School Foundation. Retrieved from www.centerii.org.

As of November 1, 2013, the U.S. Department of Education (Department) has approved 42 States, Puerto Rico and the District of Columbia for “ESEA Flexibility.” As a condition of this flexibility, States have committed, among other things, to turning around their lowest-performing schools over a three-year period. Similarly, under SIG, LEAs with low-performing schools implement models designed to turn around the State's lowest-performing schools. To address the need for leaders who are prepared to lead effectively in these turnaround schools, and consistent with the authority provided by Congress to use up to five percent of SIG funds for activities to build SEA and LEA capacity to implement the SIG program, the Department is using a portion of the fiscal year (FY) 2013 SIG funds to initiate the Turnaround School Leaders Program.

The Turnaround School Leaders Program supports efforts to develop and implement or enhance and implement a leadership pipeline (as defined in this notice) for SIG schools and/or SIG-eligible schools in an LEA or consortium of LEAs. Grantees under this program will—

• Recruit and select promising current and prospective school leaders, using locally adopted competencies (as defined in this notice) identified by the applicant as necessary to turn around a SIG school or SIG-eligible school;

• Provide high-quality training to selected school leaders to prepare them to successfully lead turnaround efforts in SIG schools and/or SIG-eligible schools;

• Place school leaders in SIG schools and/or SIG-eligible schools and provide them with ongoing professional development and other support that focuses on instructional leadership and school management and is based on individual needs consistent with the LEA's plan for turning around its SIG schools and/or SIG-eligible schools; and

• Retain effective school leaders, using financial or other incentives, and replace ineffective school leaders.

Priorities: This notice establishes two absolute priorities and two competitive preference priorities. We are establishing these priorities for the FY 2014 grant competition and any subsequent year in which we make awards from the list of unfunded applicants from this competition, in accordance with section 437(d)(1) of the General Education Provisions Act (GEPA), 20 U.S.C. 1232(d)(1).

Absolute Priorities: These priorities are absolute priorities. Under 34 CFR 75.105(c)(3), we consider only applications that meet one of these priorities. An applicant may apply under only one absolute priority and must indicate in its application the priority under which it is applying.

The Department seeks to encourage high-quality applications from applicants serving LEAs that are diverse in size and location. For this reason, the Department establishes two priorities—Absolute Priorities 1 and 2—through which the Department intends to support leadership pipelines in both rural and non-rural communities with no fewer than five schools in each community that are SIG schools and/or SIG-eligible schools.

If an otherwise eligible applicant applying under Absolute Priority 2 is determined not to have met the priority because it has misidentified the designation of one or more schools as rural, the Department reserves the authority to review the applicant's submission with all other applications submitted for funding that meet Absolute Priority 1.

These priorities are:

Absolute Priority 1: Non-Rural Turnaround School Leader Selection, Preparation, Placement, Support, and Retention Program

To meet this priority, the applicant must submit a plan to develop and implement or enhance and implement a leadership pipeline for at least one LEA with no fewer than five SIG schools and/or SIG-eligible schools.

Absolute Priority 2: Rural Turnaround School Leader Selection, Preparation, Placement, Support, and Retention Program

To meet this priority, the applicant must submit a plan to develop and implement or enhance and implement a leadership pipeline for at least one LEA with no fewer than five SIG schools and/or SIG-eligible schools designated as rural. A school is designated as rural if it is assigned a locale code of 41 (located in a census-defined rural territory less than 5 miles from an urban cluster), a locale code of 42 (located in a census-defined rural territory more than 5 miles but less than or equal to 25 miles from an urban cluster), or a locale code of 43 (located in a census-defined rural territory that is more than 25 miles from an urban cluster) by the National Center for Education Statistics (NCES).

Note 1: To identify the locale code of any school to be served by the proposed project, access the NCES public school database here: http://nces.ed.gov/ccd/schoolsearch/.

Note 2: An applicant may apply under only one absolute priority and must indicate in its abstract the priority under which it is applying as well as the schools, and NCES identification numbers of those schools, the applicant intends to serve.

Note 3: Applicants that fail to clearly identify in the abstract section the absolute priority for which it is seeking to apply will have its application reviewed with all other applications submitted for funding that under Absolute Priority 1.

Competitive Preference Priorities: These priorities are competitive preference priorities. Under 34 CFR 75.105(c)(2)(i), we award three additional points to an application that meets Competitive Preference Priority 1 and five additional points to an application that meets Competitive Preference Priority 2. A total of eight points may be awarded.

These priorities are:

Competitive Preference Priority 1: Existing Policy Conditions That Can Be Leveraged To Ensure Success and Sustainability of a Turnaround Leadership Pipeline

To meet this priority, the applicant must provide documentation that the LEA or consortium of LEAs already has in place policies that provide school leaders (as defined in this notice) with decision-making autonomy (with regard to staffing, school schedules, and budgeting) and provide the LEA or consortium of LEAs with flexibility in the selection, preparation, placement, support, and retention of school leaders to successfully turn around SIG schools and/or SIG-eligible schools. This may include, for example, School Board meeting minutes recording the adoption of policies, guidance documents, or trainings provided to school leaders.

Competitive Preference Priority 2: Record of Preparing and Supporting Turnaround School Leaders Who Have Demonstrated Success in Increased Graduation Rates and Academic Growth

To meet this priority, the applicant must provide documentation of previous success in preparing and supporting school leaders or leadership teams in SIG schools and/or SIG-eligible schools as demonstrated by increased graduation rates and academic growth on State assessments in reading/language arts and in mathematics for the “all students” group and for each subgroup, as specified in section 1111(b)(3)(C)(xiii), 20 U.S.C. 6311(b)(3)(C)(xiii).

Note 1: Applicants may address either of the competitive preference priorities, both, or neither. In order to be eligible for earning competitive preference priority points, an applicant must identify in the abstract section of its application the competitive preference priority or priorities for which it is seeking points.

Note 2: Applicants that fail to clearly identify in the abstract section the competitive preference priority or priorities for which it is seeking to earn points will not have its application reviewed against the competitive preference priority and will not be awarded competitive preference priority points.

Application Requirements: The applicant must provide the following.

Requirement 1—Demonstrating Capacity To Develop and Implement a Leadership Pipeline System

In its application, an applicant must demonstrate its capacity to develop and implement or enhance and implement a leadership pipeline for SIG schools and/or SIG-eligible schools. The applicant must demonstrate such capacity by providing evidence of each of the following:

a. An existing evaluation system that measures teacher and leader effectiveness.

b. Commitment to implement and sustain the proposed plan by the applicant. To demonstrate this commitment, an applicant must include with its application a Memorandum of Understanding (MOU), or, if the applicant is an LEA, a letter of commitment, signed by the superintendent and (if applicable) school board president of each LEA to be served by the project and by an appropriate representative of the applicant (if not an LEA) and any other partner entity, outlining the terms and conditions of the partnership.

c. A reasonable opportunity for the public, including teachers and school leaders, to provide feedback on the applicant's proposed leadership pipeline plan as demonstrated by evidence, for instance, that forums designed to inform and engage school staff and community stakeholders have been held.

Requirement 2—Sustaining the Leadership Pipeline

The applicant must describe its plan for sustaining the leadership pipeline it will implement as a result of this grant. The sustainability plan must include each of the following:

a. A description of the data that the applicant will use, and how the applicant will use the data, to inform its continuous improvement of the leadership pipeline after the grant award period ends.

b. A description of the actions that the applicant will undertake to continue to select, prepare, place, support, and retain school leaders in SIG schools and/or SIG-eligible schools after the grant award period ends.

c. A budget narrative that identifies and aligns resources to sustain the system after the grant award period ends.

Program Requirements: The following are program requirements. In its application, the applicant must describe its plan to carry out the following program requirements:

Requirement 3—Describing the Leadership Pipeline

The grantee must use grant funds to develop and implement or enhance and implement a leadership pipeline that:

a. Selects school leaders using locally adopted competencies identified by the applicant as necessary to turn around a SIG school or SIG-eligible school;

b. Provides comprehensive and differentiated professional development to selected school leaders to prepare them to successfully lead turnaround efforts in SIG schools and/or SIG-eligible schools;

c. Places school leaders in SIG schools and/or SIG-eligible schools, and provides them with ongoing individualized support based on the LEA's plan for turning around its SIG schools and/or SIG-eligible schools; and

d. Retains effective school leaders, using financial or other incentives, and replaces ineffective school leaders.

Requirement 4—Determining Leadership Effectiveness

The grantee must use data (which may include data from the evaluation system that measures teacher and leader effectiveness) to inform selection, placement, retention and incentive decisions.

Requirement 5—Continuous Project Improvement

The grantee must identify and use data to inform continuous improvement of its leadership pipeline during the award period.

Requirement 6—Extension of Autonomy to School Leaders

The grantee must ensure that school leaders placed in SIG schools and/or SIG-eligible schools have decision-making autonomy (with regard to staffing, school schedules, and budgeting).

Definitions

The following definitions apply to the competition announced in this notice.

Leadership pipeline means a system through which an LEA or consortium of LEAs is able to select, prepare, place, support, and retain school leaders, including leadership teams, for SIG schools and/or SIG-eligible schools.

Locally adopted competencies means the knowledge, skills and abilities, developed by an LEA or school, which are associated with effective performance as a turnaround leader and supported by research-based evidence.

Logic model (also referred to as theory of action) means a well-specified conceptual framework that identifies key components of the proposed process, product, strategy, or practice (i.e., the active “ingredients” that are hypothesized to be critical to achieving the relevant outcomes) and describes the relationships among the key components and outcomes, theoretically and operationally.

Relevant outcome means the student outcome(s) (or the ultimate outcome if not related to students) the proposed process, product, strategy, or practice is designed to improve; consistent with the specific goals of a program.

School leader means a school's principal and may also include other members of a school's leadership team.

SIG school means either:

(1) A Tier I or Tier II school as defined in the SIG final requirements published in the Federal Register on October 28, 2010 (75 FR 66363) (http://www.gpo.gov/fdsys/pkg/FR-2010-10-28/pdf/2010-27313.pdf) that is, as of the date of the application, implementing a SIG model, or

(2) For a State that has received approval of its ESEA Flexibility request, a priority school that is, as of the date of the application, implementing a SIG model.

SIG-eligible school means either:

(1) A school that meets the definition of a Tier I or Tier II school as defined in the SIG final requirements published in the Federal Register on October 28, 2010 (75 FR 66363) (http://www.gpo.gov/fdsys/pkg/FR-2010-10-28/pdf/2010-27313.pdf), or

(2) For States that have received approval of their ESEA Flexibility request, a priority school identified by an SEA in the list of schools in the SEA's approved FY 2013 SIG application.

Strong theory means a rationale for the proposed process, product, strategy, or practice that includes a logic model.

Waiver of Proposed Rulemaking: Under the Administrative Procedure Act (5 U.S.C. 553) the Department generally offers interested parties the opportunity to comment on proposed priorities, selection criteria, definitions, and other requirements. Section 437(d)(1) of GEPA, however, allows the Secretary to exempt from rulemaking requirements, regulations governing the first grant competition under a new or substantially revised program authority. This is the first grant competition for this program under the Consolidated and Further Continuing Appropriations Act, 2013 (Pub. L. 113-6) and the Consolidated Appropriations Act, 2012 (Pub. L. 112-74) and therefore qualifies for this exemption. In order to ensure timely grant awards, the Secretary has decided to forego public comment on the priorities, selection criteria, definitions, and other requirements under section 437(d)(1) of GEPA. These priorities, selection criteria, definitions, and other requirements will apply to the FY 2013 grant competition and any subsequent year in which we make awards from the list of unfunded applicants from this competition.

Program Authority: 20 U.S.C. 6303(g); the Consolidated and Further Continuing Appropriations Act, 2013 (Pub. L. 113-6); and the Consolidated Appropriations Act, 2012 (Pub. L. 112-74).

Applicable Regulations: (a) The Education Department General Administrative Regulations (EDGAR) in 34 CFR parts 74, 75, 77, 79, 80, 81, 82, 84, 86, 97, 98, and 99. (b) The Education Department suspension and debarment regulations in 2 CFR part 3485.

Note: The regulations in 34 CFR part 79 apply to all applicants except federally recognized Indian tribes.

Note: The regulations in 34 CFR part 86 apply to institutions of higher education only.

II. Award Information

Type of Award: Discretionary grants.

Estimated Available Funds: $14,000,000.

Contingent upon the availability of funds and the quality of applications, the Department may make additional awards in future years from the list of unfunded applicants from this competition.

Estimated Range of Awards: $1,000,000 to $2,000,000.

Estimated Average Size of Awards: $1,500,000.

Estimated Number of Awards: 8-12.

Note: The Department is not bound by any estimates in this notice.

Project Period: Up to 36 months.

III. Eligibility Information

1. Eligible Applicants: (1) An LEA or consortium of LEAs with at least five SIG schools and/or SIG-eligible schools; (2) A State educational agency (SEA) in partnership with an LEA or consortium of LEAs with at least five SIG schools and/or SIG-eligible schools; (3) An institution of higher education (IHE) in partnership with an LEA or consortium of LEAs with at least five SIG schools and/or SIG-eligible schools; (4) Another public or private nonprofit or for-profit organization in partnership with an LEA and/or consortium of LEAs with at least five SIG schools and/or SIG-eligible schools; and, (5) A combination of the above eligible applicants in partnership. Eligible applicants seeking to apply as a consortium or partnership must comply with the regulations in 34 CFR 75.127-75.129, which address group applications.

2. Cost Sharing or Matching: This program does not require cost sharing or matching.

IV. Application and Submission Information

1. Address to Request Application Package: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this program or competition as follows: CFDA number 84.377B.

Individuals with disabilities can obtain a copy of the application package in an accessible format (e.g., braille, large print, audiotape, or compact disc) by contacting the person listed under Accessible Format in section VIII of this notice.

2.a. Content and Form of Application Submission: Requirements concerning the content of an application, together with the forms you must submit, are in the application package for this program.

Notice of Intent to Apply: The Department will be able to develop a more efficient process for reviewing grant applications if it has a better understanding of the number of entities that intend to apply for funding under this program. Therefore, the Secretary strongly encourages each potential applicant to notify the Department by sending a short email message indicating the applicant's intent to submit an application for funding. The email need not include information regarding the content of the proposed application, only the applicant's intent to submit it. This email notification should be sent to the Office of School Turnaround at: leadership.pipeline@ed.gov.

Page Limit: The application narrative is where you, the applicant, address the selection criteria that reviewers use to evaluate your application. Panel readers will award points only for an applicant's response to a given selection criterion that is contained within the section of the application designated to address that particular selection criterion. Readers will not review, or award points for responses to a given selection criterion that is located in any other section of the application or the appendices. You must limit the application narrative to no more than 40 pages, using the following standards:

• A “page” is 8.5” x 11”, on one side only, with 1” margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to the cover sheet; the budget section, including the narrative budget justification; the assurances and certifications; or the one-page abstract, the resumes, the bibliography, or the letters of support. However, the page limit does apply to all of the application narrative section.

We will reject your application if you exceed the page limit.

2.b. Submission of Proprietary Information: Given the types of projects that may be proposed in applications for the Turnaround School Leaders Program an application may include business information that the applicant considers proprietary. The Department's regulations define “business information” in 34 CFR 5.11.

Because we plan to make successful applications available to the public, you may wish to request confidentiality of business information.

Consistent with Executive Order 12600, please designate in your application any information that you feel is exempt from disclosure under Exemption 4 of the Freedom of Information Act. In the appropriate Appendix section of your application, under “Other Attachments Form,” please list the page number or numbers on which we can find this information. For additional information please see 34 CFR 5.11(c).

3. Submission Dates and Times:

Applications Available: March 28, 2014.

Date of Pre-Application Webinar: April 9, 2014. Further information will be available at http://www2.ed.gov/programs/sif/index.html.

Deadline for Notice of Intent to Apply: April 25, 2014.

Deadline for Transmittal of Applications: May 23, 2014.

Applications for grants under this program must be submitted electronically using the Grants.gov Apply site (Grants.gov). For information (including dates and times) about how to submit your application electronically, or in a paper format by mail or hand delivery if you qualify for an exception to the electronic submission requirement, please refer to section IV.7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: July 22, 2014.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one-to-two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov. and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this program must be submitted electronically unless you qualify for an exception to this requirement in accordance with the instructions in this section.

a. Electronic Submission of Applications

Applications for grants under the Turnaround School Leaders Program, CFDA number 84.377B, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Turnaround School Leaders Program at www.Grants.gov. You must search for the downloadable application package for this program by the CFDA number. Do not include the CFDA number's alpha suffix in your search (e.g., search for 84.326, not 84.326A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Janine Rudder, U.S. Department of Education, 400 Maryland Avenue SW., Room 3W252, Washington, DC 20202.

FAX: (202) 205-5870.

Alternatively, you may email a PDF of your statement to the Office of School Turnaround. Email: leadership.pipeline@ed.gov.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: (CFDA Number 84.377B), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (CFDA Number 84.377B), 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are as follows:

a. Quality of the project design (up to 40 points). In determining the quality of the design of the proposed project, we consider the following factors:

1. The extent to which the applicant proposes to select and place school leaders using locally adopted competencies identified by the applicant as being necessary to turn around SIG schools and/or SIG-eligible schools (up to 7 points).

2. The extent to which the applicant will provide comprehensive and differentiated professional development to prepare and support school leaders who are placed in SIG schools and/or SIG-eligible schools (up to 9 points).

3. The extent to which the proposed project is supported by a strong theory (as defined in 34 CFR 77.1(c)) (up to 5 points).

4. The extent to which the design of the applicant's proposed project will address the needs of traditionally underserved populations (including students with disabilities and English learners), such as by recruiting, incentivizing, and selecting special education teachers and those in language instruction educational programs to be school leaders (up to 5 points).

5. The extent to which the applicant will use data to inform professional development, retention and incentive decisions (up to 7 points).

6. The extent to which the applicant plans to identify and use data to inform continuous improvement of its proposed leadership pipeline during the award period (up to 7 points).

b. Significance of the project (up to 5 points). In determining the significance of the proposed project, we consider the extent to which the applicant's proposed leadership pipeline is likely to produce best practices and lessons learned that promote and support reforms in the turnaround field (up to 5 points).

c. Capacity to implement the proposed project (up to 20 points). We consider the following factors in determining the applicant's capacity in implementing the proposed project:

1. The extent to which the applicant has a system in place that determines teacher and leader effectiveness (up to 5 points).

2. The extent to which the applicant demonstrates that decision-making autonomy (with regard to staffing, school schedules, and budgeting) will be extended to school leaders placed in SIG schools and/or SIG-eligible schools (up to 5 points).

3. The extent to which the proposed project will be coordinated with committed partners as evidenced by Memoranda of Understanding, signed by the superintendent and (if applicable) school board president of each LEA to be served by the project and by an appropriate representative of the applicant (if not an LEA) and any other partner entity, which outline the terms and contributions each partner will make to support full and effective implementation of the leadership pipeline for SIG schools and/or SIG-eligible schools (up to 5 points).

4. The extent to which the applicant offers a reasonable opportunity for the public, including teachers and school leaders, to provide feedback on the applicant's proposed leadership pipeline plan as demonstrated by evidence, for instance, that forums designed to inform and engage stakeholders have been held (up to 5 points).

d. Sustainability of the proposed project after the award period ends (up to 25 points). We consider the following factors in determining the sustainability of the leadership pipeline:

1. The adequacy of the applicant's plan to sustain the leadership pipeline it develops and implements or enhances as a result of the grant (up to 10 points).

2. The adequacy of the proposed budget that indicates how the applicant will identify and align resources to sustain the leadership pipeline after the grant award period ends (up to 10 points).

3. The adequacy of the applicant's plan to sustain stakeholder support of the project after Federal funding ends, including, as appropriate, the demonstrated commitment of the LEA's superintendent, local school board president, and any other partner entities (up to 5 points).

e. Quality of the management plan (up to 10 points). In determining the quality of the management plan for the proposed project, we consider the following factors:

1. The extent to which the applicant's plan is likely to achieve the objectives of the proposed project on time and within budget, including how likely the plan is to result in the applicant carrying out clearly defined responsibilities, meeting articulated timelines, and achieving specified and measurable milestones for developing and implementing the leadership pipeline for SIG schools and/or SIG-eligible schools (up to 5 points).

2. The adequacy of the time commitment and qualifications of the project director and key personnel, including relevant training and experience, to continuously implement the proposed project and to support project participants (up to 5 points).

2. Review and Selection Process: To ensure that grantees under this program serve both rural and non-rural communities, the Department may separately consider for funding applications meeting Absolute Priority 1 and those meeting Absolute Priority 2.

We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The Secretary has established measures for assessing the effectiveness of the Turnaround School Leaders Program. Unless otherwise noted, we intend to collect from grantees data responsive to these measures for each project year. The measures are:

a. The number and percent of school leaders placed in SIG schools and/or SIG-eligible schools who have increased graduation rates and academic growth on State assessments in reading/language arts and in mathematics for the “all students” group.

b. The teacher attendance rate for each school for every year through the 2018-2019 school year for the SIG schools and/or SIG-eligible schools in which school leaders are placed and retained by the LEA or consortium of LEAs.

c. The student attendance rate for each school for every year through the 2018-2019 school year for the SIG schools and/or SIG-eligible schools in which school leaders are placed and retained by the LEA or consortium of LEAs.

d. The graduation rate, as applicable, for each school for every year through the 2018-2019 school year for the SIG schools and/or SIG-eligible schools in which school leaders are placed and retained by the LEA or consortium of LEAs.

e. The number and percent of school leaders selected, from all applicants for the project, to begin professional development to prepare for placement in SIG schools and/or SIG-eligible schools.

f. The number and percent of school leaders that complete the preparation component of the pipeline for every year through the 2017-2018 school year.

g. The number and percent of school leaders placed in SIG schools and/or SIG-eligible schools for every year through the 2017-2018 school year.

h. The leadership pipeline cost per school leader who increased graduation rates and academic growth on State assessments in reading/language arts and in mathematics, by grade, for the “all students” group and for each subgroup served by the project.

5. Continuation Awards: The Department may provide full funding for the entire project period to successful applicants from the FY 2013 funds currently available or may provide funding for an initial budget period from the FY 2013 funds. Depending upon the amount of funding provided in the initial awards and the availability of funds, the Department may make continuation awards for subsequent fiscal years in accordance with 34 CFR 75.253. In making such continuation awards, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Janine Rudder, U.S. Department of Education, 400 Maryland Avenue SW., Room 3W252, Washington, DC 20202. Telephone: (202) 205-3785, or by email: leadership.pipeline@ed.gov. or

Christopher Tate, U.S. Department of Education, 400 Maryland Avenue SW., Room 3W231, Washington, DC 20202. Telephone: (202) 260-8103, or by email: leadership.pipeline@ed.gov.

VIII. Other Information

Accessible Format: Individuals with disabilities can obtain this document and a copy of the application package in an accessible format (e.g., braille, large print, audiotape, or compact disc) on request to the program contact person persons listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 21, 2014.
Deborah S. Delisle,
Assistant Secretary for Elementary and Secondary Education.

[FR Doc. 2014-06695 Filed 3-27-14; 8:45 am]

BILLING CODE 4000-01-P